DEPARTMENT OF ENERGY

Federal Energy Regulatory Commission

[Docket No. CP16-121-000]

National Grid LNG LLC; Notice of Request for Extension of Time

Take notice that on August 16, 2022, National Grid LNG LLC (National Grid) requested that the Federal Energy Regulatory Commission (Commission) grant an extension of time (2022 Extension of Time Request), until June 1, 2023, to complete construction of, and place into service, its Fields Point Liquefaction Project located in Providence, RI as authorized in the October 17, 2018 Order Issuing Certificate (Certificate Order).¹ Ordering Paragraph B(1) of the Certificate Order required National Grid to complete the construction of the proposed Fields Point Liquefaction Project facilities ² and make them available for service within three years from issuance, or by October 17, 2021.³

¹ National Grid LNG LLC, 165 FERC ¶ 61,031 (2018) (Certificate Order).

² The Fields Point Liquefaction Project consists of the construction of one (1) new 20 million cubic feet per day (MMcf/d) gas pretreatment and liquefaction system to convert natural gas delivered by pipeline into liquefied natural gas (LNG). The liquefaction facility is designed to enable National Gas to provide up to 20,600 dekatherms per day (Dth/day) liquefaction service at its existing LNG storage facility located in Providence, RI.

³ Id. at ordering para. (B)(1).

On December 8, 2020 National Grid filed a request for an extension of time for an additional twelve months to complete construction and place into service the authorized construction at the LNG storage facility at Fields Point. National Grid was granted a one-year extension of time, until and including October 17, 2022, to complete abandonment activities authorized in the above referenced docket.

National Grid states that the Project was on-schedule to be placed in service before October 17, 2022, however, National Grid had to suspend the testing and commissioning process on May 23, 2022, due to objections from the PPL Corporation-owned LDC regarding odorant levels in the tail gas flowing into the LDC system on that date. National Grid states that despite diligent efforts to design, engineer and procure all of the components for the mercaptan removal system, supply chain delays have occurred. National Grid states that potential supply shortfall could lead to further delays in completing the testing to begin service until the following Spring. For that reason and dependence upon meteorological conditions during the Fall months, National Grid requests an extension to June 1, 2023 for the date to place the facilities in service.

This notice establishes a 15-calendar day intervention and comment period deadline. Any person wishing to comment on National Grid's request for an extension of time may do so. No reply comments or answers will be considered. If you wish to obtain legal status by becoming a party to the proceedings for this request, you should, on or before the comment date stated below, file a motion to intervene in accordance with the requirements of the Commission's Rules of Practice and Procedure (18 CFR 385.214 or 385.211) and the Regulations under the Natural Gas Act (18 CFR 157.10).

As a matter of practice, the Commission itself generally acts on requests for extensions of time to complete construction for Natural Gas Act facilities when such requests are contested before order issuance. For those extension requests that are contested,⁴ the Commission will aim to issue an order acting on the request within 45 days.⁵ The Commission will address all arguments relating to whether the applicant has demonstrated there is good cause to grant the extension.⁶ The Commission will not consider arguments that re-litigate the issuance of the certificate order, including whether the Commission properly found the project to be in the public convenience and necessity and whether the Commission's environmental analysis for the certificate complied with the National Environmental Policy Act.⁷ At the time a pipeline requests an extension of time, orders on certificates of public convenience and necessity are final and the Commission will not re-litigate their issuance.⁸ The OEP Director, or his or her designee, will act on all of those extension requests that are uncontested.

⁴ Contested proceedings are those where an intervenor disputes any material issue of the filing. 18 CFR 385.2201(c)(1) (2019).

⁵ Algonquin Gas Transmission, LLC, 170 FERC ¶ 61,144, at P 40 (2020).

⁶ Id. at P 40.

⁷ Similarly, the Commission will not re-litigate the issuance of an NGA section 3 authorization, including whether a proposed project is not inconsistent with the public interest and whether the Commission's environmental analysis for the permit order complied with NEPA.

⁸ Algonquin Gas Transmission, LLC, 170 FERC ¶ 61,144, at P 40 (2020).

In addition to publishing the full text of this document in the Federal Register, The Commission provides all interested persons an opportunity to view and/or print the contents of this document via the internet through the Commission's Home Page (http://www.ferc.gov) using the “eLibrary” link. Enter the docket number excluding the last three digits in the docket number field to access the document. At this time, the Commission has suspended access to Commission's Public Reference Room, due to the proclamation declaring a National Emergency concerning the Novel Coronavirus Disease (COVID-19), issued by the President on March 13, 2020. For assistance, contact FERC at FERCOnlineSupport@ferc.gov or call toll-free, (886) 208-3676 or TYY, (202) 502-8659.

The Commission strongly encourages electronic filings of comments, protests and interventions in lieu of paper using the “eFiling” link at http://www.ferc.gov. Persons unable to file electronically should submit an original and three copies of the protest or intervention to the Federal Energy Regulatory Commission, 888 First Street NE, Washington, DC 20426.

Comment Date: 5:00 p.m. Eastern Time on September 6, 2022.

Dated: August 22, 2022.
Kimberly D. Bose,
Secretary.

[FR Doc. 2022-18419 Filed 8-25-22; 8:45 am]

BILLING CODE 6717-01-P